DEPARTMENT OF ENERGY

Notice of Availability of Solicitation

AGENCY: Idaho Operations Office, Department of Energy.

ACTION: Notice of availability of solicitation—biobased products industry education initiative.

SUMMARY: The U.S. Department of Energy, Office of Industrial Technologies, is seeking applications from private and public institutions of higher learning to promote multidisciplinary education and training programs for graduate students at the Masters or Ph.D. levels in the area of biobased products.

The emerging biobased products industry uses crops, trees, residues, and wastes to make chemicals and a large range of everyday consumer goods, like plastics, paints and adhesives. Contributions to this new industry would come from a wide range of traditional academic programs including: biology, molecular and micro-biology, genomics, plant physiology, fermentation sciences, agronomy, crop production, forestry, chemistry, chemical engineering and other engineering disciplines, and polymer and material science. These examples are cited for illustrative purposes only and are not intended to limit the academic programs to just those listed. This solicitation seeks to encourage the widest possible range of creative approaches.

DATES: The deadline for receipt of applications is 3 p.m. MDT January 17, 2001.

ADDRESSES: Applications should be submitted to: Procurement Services Division, U.S. Department of Energy, Idaho Operations Office, Attention: Marshall Garr [DE-PS07-00ID13962], 850 Energy Drive, MS 1221, Idaho Falls, Idaho 83401-1563.

FOR FURTHER INFORMATION CONTACT: Marshall Garr, Contract Specialist, at garrmc@id.doe.gov, telephone (208) 526-1536.

SUPPLEMENTARY INFORMATION: The objective of this new education initiative is to produce graduates who can enter the complex biobased products industry and effectively integrate knowledge from the wide range of technologies that are necessary for this industry to grow. U.S. universities and colleges are encouraged to design a comprehensive, multidisciplinary curriculum to achieve such a goal from an educational perspective and simultaneously allow the student to gain a hands-on experience through the implementation of an individual relevant research program. It is expected that the student, under the major professor's tutelage will conduct a research program that will make substantive contributions to the biobased products industry. It is encouraged for the students to interact with industry in their academic and research program.

Graduates will eventually be expected to contribute to improving the efficient utilization of energy in this new industry and enhancing the environmental quality of the surrounding land, air and water.

The statutory authority for this program is the Federal Non-Nuclear Energy Research & Development Act of 1974 (Pub L. 93-577). DOE anticipates approximately 4-5 grant awards will be made for up to $125,000 each a year for a maximum of three years in duration. These grants will cover both the costs for establishing a new cross-cutting academic and research program in this field as well as full stipends for 2 or so deserving graduate students at the Masters or Ph.D. level. The awards will be used for the academic year starting in the fall of 2001.

The issuance date of Solicitation No. DE-PS07-01ID14037 will be November 27, 2000. The solicitation will be available in full text via the Internet at the following address: http://www.id.doe.gov /doeid/psd/proc-div.html. Technical and non-technical questions should be submitted in writing to Marshall Garr by e-mail garrmc@id.doe.gov, or facsimile at 208-526-5548 no later than December 12, 2000.

Issued in Idaho Falls on November 21, 2000.
R. Jeffrey Hoyles,
Director, Procurement Services Division.

[FR Doc. 00-30406 Filed 11-28-00; 8:45 am]

BILLING CODE 6450-01-P